DEPARTMENT OF HOMELAND SECURITY

Federal Emergency Management Agency

[Docket ID FEMA-2013-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama: Jefferson, (FEMA Docket No.:, B-1328) | City of Leeds, (12-04-8094P) | The Honorable David Miller, Mayor, City of Leeds, 1040 Park Drive, Leeds, AL 35094 | City Hall, 100 9th Street, Southeast, Leeds, AL 35094 | August 5, 2013 | 010125
Arizona:
Maricopa, (FEMA Docket No.:, B-1328) | City of Glendale, (12-09-3189P) | The Honorable Jerry Weiers, Mayor, City of Glendale, 5850 West Glendale Avenue, Glendale, AZ 85301 | City Hall, 5850 West Glendale Avenue, Glendale, AZ 85301 | August 2, 2013 | 040045
Maricopa, (FEMA Docket No.:, B-1328) | City of Glendale, (13-09-0598P) | The Honorable Jerry Weiers, Mayor, City of Glendale, 5850 West Glendale Avenue, Glendale, AZ 85301 | City Hall, 5850 West Glendale Avenue, Glendale, AZ 85301 | August 9, 2013 | 040045
Maricopa, (FEMA Docket No.:, B-1328) | City of Peoria, (12-09-2079P) | The Honorable Bob Barrett, Mayor, City of Peoria, 8401 West Monroe Street, Peoria, AZ 85345 | City Hall, 8401 West Monroe Street, Peoria, AZ 85345 | July 12, 2013 | 040050
Maricopa, (FEMA Docket No.:, B-1328) | City of Phoenix, (13-09-0598P) | The Honorable Greg Stanton, Mayor, City of Phoenix, 200 West Washington Street, 11th Floor, Phoenix, AZ 85003 | Street Transportation Department, 200 West Washington Street, 5th Floor, Phoenix, AZ 85003 | August 9, 2013 | 040051
Maricopa, (FEMA Docket No.:, B-1328) | Unincorporated areas of Maricopa County, (12-09-3189P) | The Honorable Andy Kunasek, Chairman, Maricopa County Board of Supervisors, 301 West Jefferson, 10th Floor, Phoenix, AZ 85003 | Maricopa County Flood Control District, 2801 West Durango Street, Phoenix, AZ 85009 | August 2, 2013 | 040037
Maricopa, (FEMA Docket No.:, B-1328) | Unincorporated areas of Maricopa County, (13-09-0598P) | The Honorable Andy Kunasek, Chairman, Maricopa County Board of Supervisors, 301 West Jefferson, 10th Floor, Phoenix, AZ 85003 | Maricopa County Flood Control District, 2801 West Durango Street, Phoenix, AZ 85009 | August 9, 2013 | 040037
Yavapai, (FEMA Docket No.:, B-1335) | Town of Chino Valley, (13-09-1088P) | The Honorable Chris Marley, Mayor, Town of Chino Valley, P.O. Box 406, Chino Valley, AZ 86323 | Development Services Department, 1982 Voss Drive, Chino Valley, AZ 86323 | September 20, 2013 | 040094
Yuma, (FEMA Docket No.:, B-1328) | Unincorporated areas of Yuma County, (12-09-2329P) | The Honorable Gregory S. Ferguson, Chairman, Yuma County Board of Supervisors, 198 South Main Street, Yuma, AZ 85364 | Department of Development Services, 2351 West 26th Street, Yuma, AZ 85364 | August 9, 2013 | 040099
California:
Los Angeles, (FEMA Docket No.:, B-1328) | City of Santa Clarita, (12-09-2819P) | The Honorable Bob Kellar, Mayor, City of Santa Clarita, 23920 Valencia Boulevard, Santa Clarita, CA 91355 | City Hall, Planning Department, 23920 Valencia Boulevard, Santa Clarita, CA 91355 | August 9, 2013 | 060729
Los Angeles, (FEMA Docket No.:, B-1320) | City of Santa Clarita, (13-09-0273P) | The Honorable Bob Kellar, Mayor, City of Santa Clarita, 23920 Valencia Boulevard, Santa Clarita, CA 91355 | City Hall, Planning Department, 23920 Valencia Boulevard, Santa Clarita, CA 91355 | July 12, 2013 | 060729
San Bernardino, (FEMA Docket No.:, B-1335) | City of Ontario, (13-09-0673P) | The Honorable Paul S. Leon, Mayor, City of Ontario, 303 East B Street, Ontario, CA 91764 | City Hall, Engineering Department, Public Counter, 303 East B Street, Ontario, CA 91764 | September 20, 2013 | 060278
San Bernardino, (FEMA Docket No.:, B-1320) | City of Rancho Cucamonga, (13-09-0388P) | The Honorable L. Dennis Michael, Mayor, City of Rancho Cucamonga, 10500 Civic Center Drive, Rancho Cucamonga, CA 91730 | Engineering Department, 10500 Civic Center Drive, Rancho Cucamonga, CA 91730 | July 15, 2013 | 060671
San Bernardino, (FEMA Docket No.:, B-1328) | City of Redlands, (12-09-0729P) | The Honorable Pete Aguilar, Mayor, City of Redlands, P.O. Box 3005, Redlands, CA 92373 | City Hall, 35 Cajon Street, Redlands, CA 92373 | August 2, 2013 | 060279
San Bernardino, (FEMA Docket No.:, B-1328) | City of San Bernardino, (12-09-0729P) | The Honorable Patrick J. Morris, Mayor, City of San Bernardino, 300 North D Street, 6th Floor, San Bernardino, CA 92418 | Water Department, 399 Chandler Place, San Bernardino, CA 92408 | August 2, 2013 | 060281
Sierra, (FEMA Docket No.:, B-1328) | Unincorporated areas of Sierra County, (13-09-0454P) | The Honorable Scott A. Schlefstein, Chairman, Sierra County Board of Supervisors, P.O. Drawer D, Downieville, CA 95936 | Sierra County Department of Planning, Sierra County Courthouse Annex, 101 Courthouse Square, Downieville, CA 95936 | August 16, 2013 | 060630
Ventura, (FEMA Docket No.:, B-1328) | City of Simi Valley, (13-09-1538P) | The Honorable Bob Huber, Mayor, City of Simi Valley, 2929 Tapo Canyon Road, Simi Valley, CA 93063 | City Hall, 2929 Tapo Canyon Road, Simi Valley, CA 93063 | August 16, 2013 | 060421
Colorado:
Adams, (FEMA Docket No.:, B-1328) | City of Thornton, (13-08-0065P) | The Honorable Heidi Williams, Mayor, City of Thornton, 9500 Civic Center Drive, Thornton, CO 80229 | City Hall, 12450 Washington Street, Thornton, CO 80241 | July 26, 2013 | 080007
Boulder, (FEMA Docket No.:, B-1320) | City of Boulder, (13-08-0187P) | The Honorable Matthew Appelbaum, Mayor, City of Boulder, P.O. Box 791, Boulder, CO 80306 | Municipal Building Plaza, 1777 Broadway Street, Boulder, CO 80302 | July 12, 2013 | 080024
Boulder, (FEMA Docket No.:, B-1328) | Unincorporated areas of Boulder County, (13-08-0273P) | The Honorable Cindy Domenico, Chair, Boulder County Board of Commissioners, P.O. Box 471, Boulder, CO 80306 | Boulder County Transportation Department, 2525 13th Street, Suite 203, Boulder, CO 80306 | August 2, 2013 | 080023
Denver, (FEMA Docket No.:, B-1328) | City and County of Denver, (13-08-0098P) | The Honorable Michael B. Hancock, Mayor, City and County of Denver, 1437 Bannock Street, Suite 350, Denver, CO 80202 | Public Works Department, 201 West Colfax Avenue, Denver, CO 80202 | August 9, 2013 | 080046
Douglas, (FEMA Docket No.:, B-1328) | Unincorporated areas of Douglas County, (13-08-0136P) | The Honorable Jill Repella, Chair, Douglas County Board of Commissioners, 100 3rd Street, Castle Rock, CO 80104 | Douglas County Department of Public Works, Engineering Division, 100 3rd Street, Castle Rock, CO 80104 | August 9, 2013 | 080049
Douglas, (FEMA Docket No.:, B-1320) | Unincorporated areas of Douglas County, (13-08-0255P) | The Honorable Jill Repella, Chair, Douglas County Board of Commissioners, 100 3rd Street, Castle Rock, CO 80104 | Douglas County Public Works Department, Engineering Division, 100 3rd Street, Castle Rock, CO 80104 | July 12, 2013 | 080049
El Paso, (FEMA Docket No.:, B-1320) | City of Colorado Springs, (12-08-0531P) | The Honorable Steve Bach, Mayor, City of Colorado Springs, 30 South Nevada Avenue, Colorado Springs, CO 80903 | Planning Commission, 30 South Nevada Avenue, Colorado Springs, CO 80903 | July 12, 2013 | 080060
El Paso, (FEMA Docket No.:, B-1320) | Unincorporated areas of El Paso County, (12-08-0659P) | The Honorable Dennis Hisey, Chairman, El Paso County Board of Commissioners, 200 South Cascade Avenue, Suite 100, Colorado Springs, CO 80903 | Development Services Department, 2880 International Circle, Suite 110, Colorado Springs, CO 80910 | July 12, 2013 | 080059
Jefferson, (FEMA Docket No.:, B-1314) | Unincorporated areas Jefferson County, (13-08-0089P) | The Honorable Donald Rosier, Chairman, Jefferson County Board of Commissioners, 100 Jefferson County Parkway, Golden, CO 80419 | Jefferson County Department of Planning and Zoning, 100 Jefferson County Parkway, Golden, CO 80419 | May 31, 2013 | 080087
Jefferson, (FEMA Docket No.:, B-1320) | Unincorporated areas of Jefferson County, (13-08-0255P) | The Honorable Donald Rosier, Chairman, Jefferson County Board of Commissioners, 100 Jefferson County Parkway, Golden, CO 80419 | Jefferson County Department of Planning and Zoning, 100 Jefferson County Parkway, Golden, CO 80419 | July 12, 2013 | 080087
Summit, (FEMA Docket No.:, B-1320) | Town of Silverthorne, (13-08-0262P) | The Honorable Dave Koop, Mayor, Town of Silverthorne, P.O. Box 1309, Silverthorne, CO 80498 | Planning Commission, 601 Center Circle, Silverthorne, CO 80498 | July 22, 2013 | 080201
Summit, (FEMA Docket No.:, B-1320) | Unincorporated areas of Summit County, (13-08-0262P) | The Honorable Thomas C. Davidson, Chairman, Summit County Board of Commissioners, P.O. Box 68, Breckenridge, CO 80424 | Summit County Planning Department, 0037 Peak One Drive, Frisco, CO 80443 | July 22, 2013 | 080290
Florida:
Lee, (FEMA Docket No.:, B-1328) | Unincorporated areas of Lee County, (12-04-4132P) | The Honorable Cecil L. Pendergrass, Chairman, Lee County Board of Commissioners, P.O. Box 398, Fort Myers, FL 33902 | Lee County Community Development Department, 1500 Monroe Street, 2nd Floor, Fort Myers, FL 33901 | August 16, 2013 | 125124
Miami-Dade, (FEMA Docket No.:, B-1320) | Unincorporated areas of Miami-Dade County, (12-04-5035P) | The Honorable Carlos A. Gimenez, Mayor, Miami-Dade County, Stephen P. Clark Center, 111 Northwest 1st Street, Miami, FL 33128 | Miami-Dade County Public Works and Waste Management Division, 701 Northwest 1st Court, Miami, FL 33136 | July 26, 2013 | 120635
Orange, (FEMA Docket No.:, B-1328) | City of Orlando, (13-04-0940P) | The Honorable Buddy Dyer, Mayor, City of Orlando, P.O. Box 4990, Orlando, FL 32808 | One City Commons, 400 South Orange Avenue, Orlando, FL 32801 | August 2, 2013 | 120186
Sarasota, (FEMA Docket No.:, B-1328) | Unincorporated areas of Sarasota County, (13-04-1684P) | The Honorable Carolyn Mason, Chair, Sarasota County Commission, 1660 Ringling Boulevard, Sarasota, FL 34236 | Sarasota County Operations Center, 1001 Sarasota Center Boulevard, Sarasota, FL 34236 | August 9, 2013 | 125144
Sarasota, (FEMA Docket No.:, B-1328) | Unincorporated areas of Sarasota County, (13-04-1985P) | The Honorable Carolyn Mason, Chair, Sarasota County Commission, 1660 Ringling Boulevard, Sarasota, FL 34236 | Sarasota County Operations Center, 1001 Sarasota Center Boulevard, Sarasota, FL 34236 | August 23, 2013 | 125144
Georgia:
Chatham, (FEMA Docket No.:, B-1320) | City of Pooler, (12-04-3344P) | The Honorable Mike Lamb, Mayor, City of Pooler, 100 Southwest Highway 80, Pooler, GA 31322 | Public Works Department, 1095 South Rogers Street, Pooler, GA 31322 | July 12, 2013 | 130261
Chatham, (FEMA Docket No.:, B-1320) | Unincorporated areas of Chatham County, (12-04-3344P) | The Honorable Albert J. Scott, Chairman, Chatham County Board of Commissioners, P.O. Box 8161, Savannah, GA 31412 | Chatham County Emergency Management Agency, 124 Bull Street, Suite 200, Savannah, GA 31401 | July 12, 2013 | 130030
Columbia, (FEMA Docket No.:, B-1335) | Unincorporated areas of Columbia County, (13-04-3711P) | The Honorable Ron C. Cross, Chairman, Columbia County Board of Commissioners, P.O. Box 498, Evans, GA 30809 | Columbia County Development Services Division, 630 Ronald Reagan Drive, Building A, Evans, GA 30809 | September 19, 2013 | 130059
Kentucky: Kenton, (FEMA Docket No.:, B-1320) | City of Fort Wright, (12-04-6732P) | The Honorable Joe Nienaber, Jr., Mayor, City of Fort Wright, 409 Kyles Lane, Fort Wright, KY 41011 | Planning Division, 409 Kyles Lane, Fort Wright, KY 41011 | July 15, 2013 | 210249
Nevada: Washoe, (FEMA Docket No.:, B-1328) | Unincorporated areas of Washoe County, (13-09-0552P) | The Honorable David Humke, Chairman, Washoe County Board of Commissioners, P.O. Box 11130, Reno, NV 89520 | Washoe County Administration Building, Department of Public Works, 1001 East 9th Street, Reno, NV 89512 | August 23, 2013 | 320019
North Carolina: Cabarrus, (FEMA Docket No.:, B-1320) | City of Kannapolis, (11-04-5137P) | The Honorable Robert Misenheimer, Mayor, City of Kannapolis, 246 Oak Avenue, Kannapolis, NC 28081 | City Hall, 246 Oak Avenue, Kannapolis, NC 28081 | July 25, 2013 | 370469
South Carolina:
Charleston, (FEMA Docket No.:, B-1328) | City of Folly Beach, (12-04-6719P) | The Honorable Tim Goodwin, Mayor, City of Folly Beach, P.O. Box 1692, Folly Beach, SC 29439 | City Hall, 21 Center Street, Folly Beach, SC 29439 | July 26, 2013 | 455415
Charleston, (FEMA Docket No.:, B-1320) | Town of Mount Pleasant, (13-04-1093P) | The Honorable Billy Swails, Mayor, Town of Mount Pleasant, 100 Ann Edwards Lane, Mount Pleasant, SC 29464 | Legal Department, 100 Ann Edwards Lane, Mount Pleasant, SC 29464 | July 12, 2013 | 455417
Georgetown, (FEMA Docket No.:, B-1328) | Unincorporated areas of Georgetown County, (12-04-7938P) | The Honorable Johnny Morant, Chairman, Georgetown County Council, P.O. Drawer 437, Georgetown, SC 29442 | Georgetown County Courthouse, 129 Screven Street, Georgetown, SC 29440 | August 12, 2013 | 450085
Tennessee: Sumner, (FEMA Docket No.:, B-1320) | City of Gallatin, (12-04-4835P) | The Honorable Jo Ann Graves, Mayor, City of Gallatin, 132 West Main Street, Gallatin, TN 37066 | City Hall, 132 West Main Street, Gallatin, TN 37066 | July 18, 2013 | 470185
Utah:
Davis, (FEMA Docket No.:, B-1328) | City of Kaysville, (13-08-0218P) | The Honorable Steve A. Hiatt, Mayor, City of Kaysville, 697 North 240 East, Kaysville, UT 84037 | City Hall, 3 East Center, Kaysville, UT 84037 | August 2, 2013 | 490046
San Juan, (FEMA Docket No.:, B-1320) | City of Monticello, (12-08-0884P) | The Honorable Douglas L. Allen, Mayor, City of Monticello, 17 North 100 East, Monticello, UT 84535 | Public Works Department, 17 North 100 East, Monticello, UT 84535 | July 18, 2013 | 490212

(Catalog of Federal Domestic Assistance No. 97.022, “Flood Insurance.”)

Dated: November 20, 2013.
Roy Wright,
Deputy Associate Administrator for Mitigation, Department of Homeland Security, Federal Emergency Management Agency.

[FR Doc. 2013-31020 Filed 12-26-13; 8:45 am]

BILLING CODE 9110-12-P